DEPARTMENT OF TRANSPORTATION

Federal Aviation Administration

14 CFR Part 71

[Docket No. FAA-2024-2048; Airspace Docket No. 24-AWP-101]

RIN 2120-AA66

Modification of Class E Airspace; Colusa County Airport, Colusa, CA

Correction

Proposed Rule Document 2024-27837, appearing on pages 94601-94603, in the issue of Friday, November 29, 2024, was incorrectly published in the Rules section and should have appeared in the Proposed Rules section.

[FR Doc. C1-2024-27837 Filed 12-19-24; 2:00 pm]

BILLING CODE 0099-10-P